DEPARTMENT OF COMMERCE

National Oceanic and Atmospheric Administration

50 CFR Part 223

[Docket No. 010521133-1307-02; I.D. No. 050101B]

Endangered and Threatened Species; Final Rule Governing Take of Four Threatened Evolutionarily Significant Units (ESUs) of West Coast Salmonids

Correction

In the issue of Tuesday, November 12, 2002, on page 68725, in the second column, in the correction of rule document 02-440, in the first line, the heading “Appendix A to §227.203 [Corrected]” should read, “Appendix A to §223.203 [Corrected]”,

[FR Doc. C2-440 Filed 11-25-02; 8:45 am]

BILLING CODE 1505-01-D

DEPARTMENT OF TRANSPORTATION

Federal Aviation Administration

14 CFR Part 21

[Docket No. FAA-1999-6411; Amendment No. 21-82]

2120-AH85

Equivalent Safety Provisions for Fuel Tank System Fault Tolerance Evaluations (SFAR 88)

Correction

In rule document 02-22622 beginning on page 57490 in the issue of Tuesday, September 10, 2002, make the following corrections:

1. On page 57490, in the first column, under the ADDRESSES heading, in the second paragraph, in the first line, “must” should read, “may”.

2. On the same page, in the third column, under the Background heading, the subheading “Amendment 25-102 and SRAF 88” should read, “Amendment 25-102 and SFAR 88”.

3. On page 57491, in the second column, in the first paragraph, in the last line “require” should read, “required”.

4. On page 57492, in the first column, in the second line, after “must” should read, “must be”.

5. On the same page, in the third column, under the Unfunded Mandates Assessment heading, in the tenth line, “as” should read, “a”.

6. On page 57493, in the first column, under the Energy Impact heading, in the seventh line, “under” should read, “under the”.

PART 21—CORRECTED

7. On the same page, in the third column, in paragraph (d), in the seventh line, “of” should read, “if”.

8. On the same page, in the same column, in the same paragraph, in the eighth line, “compiled” should read, “complied”.

[FR Doc. C2-22622 Filed 11-25-02; 8:45 am]

BILLING CODE 1505-01-D

DEPARTMENT OF TRANSPORTATION

Federal Railroad Administration

49 CFR Parts 219, 225, and 240

[Docket No. FRA-2002-13221, Notice No. 1]

RIN 2130-AB51

Conforming the Federal Railroad Administration's Accident/Incident Reporting Requirements to the Occupational Safety and Health Administration's Revised Reporting Requirements; Other Amendments

Correction

In proposed rule document 02-24393 beginning on page 63022 in the issue of Wednesday, October 9, 2002, make the following corrections:

1. On page 63023, in the first column, in the first paragraph, in the 16th line, “at Appendix A of this NRPM.” should read, “at http://safetydata.fra.dot.gov/OSHA-materials.”.

2. On the same page, in the same column, in the note following the second paragraph, in the sixth line, “104” should read, “1904”.

3. On page 63037, in the third column, in the last paragraph, in the eighth line from the bottom, “(ÿ7Ea trend)” should read, “(a ~ trend)”.

4. On the same page, in the same column, in the same paragraph, in the seventh line from the bottom, “(there was the” should read, “(there was ~ the”.

[FR Doc. C2-24393 Filed 11-25-02; 8:45 am]

BILLING CODE 1505-01-D